DEPARTMENT OF COMMERCE

Census Bureau

Proposed Information Collection; Comment Request; Census Coverage Measurement Independent Listing Operation

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before September 23, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Gia F Donnalley, U.S. Census Bureau, 4600 Silver Hill Road, Room 4K067, Washington, DC 20233, 301-763-4370 (or via the Internet at Gia.F.Donnalley@census.gov.)

SUPPLEMENTARY INFORMATION

I. Abstract

The 2010 Census Coverage Measurement (CCM) Independent Listing Operation will be conducted in the U.S. (excluding remote Alaska) and in Puerto Rico in select CCM sampled areas. The primary sampling unit is a block cluster, which consists of one or more geographically contiguous census blocks. As in the past, the CCM operations and activities will be conducted separate from and independent of the 2010 Census operations.

CCM will be conducted to provide estimates of net coverage error and coverage error components (omissions and erroneous enumerations) for housing units and persons in housing units (see Definition of Terms) to improve future censuses. The data collection and matching methodologies for previous coverage measurement programs were designed only to measure net coverage error, which reflects the difference between omissions and erroneous inclusions.

The Independent Listing Operation is the first step in the CCM process. It will be conducted to obtain a complete housing unit inventory of all the addresses within the CCM sample block clusters before the 2010 Census enumeration commences. Enumerators will canvass every street, road, or other place where people might live in their assigned block clusters and construct a list of housing units. Enumerators will contact a member (or proxy) of each housing unit to ensure all units at a given address are identified. They also will identify the location of each housing unit by assigning map spots on block maps provided with their assignment materials. Following the completion of each block cluster, the listing books are keyed for matching against the census Decennial Master Address File (DMAF) for the same areas.

Completed Independent Listing Books are subject to a Dependent Quality Check (DQC) wherein DQC listers return to the field to check 12 units per cluster to ensure that the work performed is of acceptable quality and to verify that the correct blocks were visited. If the cluster fails the DQC, then the DQC lister reworks the entire cluster.

The Independent Listing results will be computer and clerically matched to the DMAF from the census in the same areas. There will be two Independent Listing Forms, D-1302 and D-1302PR. The D-1302 is the English language version of the listing form and will be used both to list and to conduct DQC for addresses in CCM stateside sample areas. The D-1302PR is the Spanish language version of the listing form, which will be used for the same purposes in the CCM sample areas of Puerto Rico.

The addresses that remain unmatched or unresolved after matching will be sent to the field during the next field operation of the CCM (Initial Housing Unit Followup), to collect additional information that might allow a resolution of any differences between the independent listing results and the census DMAF. Cases also will be sent to resolve potential duplicates and unresolved housing unit status. The forms and procedures to be used in the Initial Housing Unit Followup phase of the CCM in the 2010 Census and all subsequent CCM phases will be the subject of a separate Federal Register Notice.

II. Method of Collection

The Independent Listing operation will be conducted using person-to-person interviews.

Definition of Terms

Components of Coverage Error—The two components of census coverage error are census omissions (missed persons or housing units) and erroneous inclusions (persons or housing units enumerated in the census that should not have been). Examples of erroneous inclusions are: Persons or housing units enumerated in the census that should not have been enumerated at all, persons or housing units enumerated in an incorrect location, and persons or housing units enumerated more than once (duplicates).

Net Coverage Error—Reflects the difference between census omissions and erroneous inclusions. A positive net error indicates an undercount, while a negative net error indicates an overcount.

For more information about the Census 2010 Coverage Measurement Program, please visit the following page of the Census Bureau's Web site: http://www.census.gov/cac/www/pdf/coverage-measurement-program.pdf.

III. Data

OMB Control Number: None.

Form Number: D-1302, D-1302PR.

Type of Review: Regular submission.

Affected Public: Individuals or Households.

Estimated Number of Respondents: 1,000,000 Housing Units (HUs) for Independent Listing and 157,000 HUs for Independent Listing DQC.

Estimated Time per Response: 2 minutes.

Estimated Total Annual Burden Hours: 38,567.

Estimated Total Annual Cost: $0.

Respondent's Obligation: Mandatory.

Legal Authority: Title 13, U.S. Code, Section 141, 193, and 221.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 22, 2008.
Gwellnar Banks,
Management Analyst, Office of the Chief Information Officer.

[FR Doc. E8-17067 Filed 7-24-08; 8:45 am]

BILLING CODE 3510-07-P